FEDERAL COMMUNICATIONS COMMISSION

Privacy Act System of Records

AGENCY: Federal Communications Commission (FCC, Commission, or Agency).

ACTION: Notice; one new Privacy Act system of records.

SUMMARY: Pursuant to subsection (e)(4) of the Privacy Act of 1974, as amended (“Privacy Act”), 5 U.S.C. 552a, the FCC's Consumer and Governmental Affairs Bureau (CGB) proposes to add a new system of records, FCC/CGB-3, “National Deaf-Blind Equipment Distribution Program (NDBEDP).” Following enactment of the Twenty-First Century Communications and Video Accessibility Act of 2010 (CVAA) on October 8, 2010, the FCC's Consumer and Governmental Affairs Bureau (CGB) subsequently issued a Report and Order, Implementation of the Twenty-First Century Communications and Video Accessibility Act of 2010, Section 105, Relay Services for Deaf-Blind Individuals, on April 6, 2011, which adopted rules to establish a National Deaf-Blind Equipment Distribution Program (NDBEDP) to support the distribution of specialized customer premises equipment (CPE) and the provision of associated services. State equipment distribution programs, other public programs, and private entities may apply to the Commission for certification for the state to participate in the NDBEDP and receive reimbursement for its activities. The Commission's purpose for establishing this system of records is for the FCC's Consumer and Governmental Affairs Bureau (CGB) to use the information, i.e., personally identifiable information (PII), that is submitted by the certified equipment distribution program in each state, as required by the NDBEDP, to maintain each state's certification to participate in this program.

DATES: In accordance with subsections (e)(4) and (e)(11) of the Privacy Act, any interested person may submit written comments concerning this proposed new system of records on or before February 21, 2012. The Office of Information and Regulatory Affairs, Office of Management and Budget (OMB), which has oversight responsibility under the Privacy Act to review the system of records and Congress may submit comments on or before February 28, 2012. The proposed new system of records will become effective on February 28, 2012 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street SW., Washington, DC 20554, or via the Internet at Leslie.Smith@fcc.gov.

FOR FURTHER INFORMATION CONTACT: Leslie F. Smith, Performance Evaluation and Records Management (PERM), Room 1-C216, Federal Communications Commission (FCC), 445 12th Street SW., Washington, DC 20554, (202) 418-0217 or via the Internet at Leslie.Smith@fcc.gov.

SUPPLEMENTARY INFORMATION: As required by the Privacy Act of 1974, as amended, 5 U.S.C. 552a(e)(4) and (e)(11), this document sets forth notice of the proposed new system of records to be maintained by the FCC. This notice is a summary of the more detailed information about the proposed new system of records, which may be obtained or viewed pursuant to the contact and location information given above in the ADDRESSES section. The Commission's purpose for establishing this system of records is for the FCC's Consumer and Governmental Affairs Bureau (CGB) to use the information, i.e., personally identifiable information (PII), that is submitted by the certified equipment distribution program in each state, as required by the NDBEDP, to maintain each state's certification to participate in this program.

This notice meets the requirement documenting the change to the systems of records that the FCC maintains, and provides the public, OMB, and Congress with an opportunity to comment.

FCC/CGB-3

SYSTEM NAME:

National Deaf-Blind Equipment Distribution Program (NDBEDP).

SECURITY CLASSIFICATION:

The FCC's Security Operations Center (SOC) has not assigned a security classification to this system of records.

SYSTEM LOCATION:

Consumer and Governmental Affairs Bureau (CGB), Federal Communications Commission (FCC), 445 12th Street SW., Washington, DC 20554 and 1270 Fairfield Road, Gettysburg, PA 17325.

CATEGORIES OF INDIVIDUALS COVERED BY THE SYSTEM:

The categories of individuals in this system include:

1. Individuals who request or receive the NDBEDP equipment;

2. Individuals who attest to the disability of the individual receiving the NDBEDP equipment and/or matters related to the eligibility requirements, qualifications, and regulations, etc., for those seeking to participate in NDBEDP; and

3. Individuals who may file complaints, including but not limited to both formal and informal complaints, and inquiries on behalf of themselves or NDBEDP participants and matters related to NDBEDP rules and regulations.

CATEGORIES OF RECORDS IN THE SYSTEM:

The categories of records in this system include:

1. The name and contact information, including street address and email addresses, and phone number for the individuals requesting or receiving the NDBEDP equipment;

2. The name and contact information, including street and email addresses, phone number(s), and fax number(s) for the individuals attesting to the disability of the individual who is deaf-blind;

3. Other miscellaneous PII related to the individuals who participate in this program, e.g., response data for equipment requests, users' complaints, evaluation of the users' needs, user training data, outreach activities, equipment request denial data, and medical attestations or records regarding disability qualifications and eligibility requirements;

4. The name and contact information, including street and email addresses, phone number(s), and fax number(s) for individuals who make or have made formal and informal complaints and inquiries (including related supporting information) in any format (including but not limited to paper, telephone, TTY, recording, Braille, and electronic submissions, such as email, Internet, and fax, etc.) on behalf of themselves or NDBEDP participants;

5. Commission correspondence, e.g., letters and related communications regarding formal and informal complaints and inquiries (which may include PII and related information) that pertain to the NDBEDP programs, the NDBEDP individual participants, and the certification and participation of each entity approved by the Commission to participate in the NDBEDP.

AUTHORITY FOR MAINTENANCE OF THE SYSTEM:

47 U.S.C. 154, 254(k); Sections 403(b)(2)(B), (c) Public Law 104-104, 110 Stat. 56. Interpret or apply 47 U.S.C. 201, 218, 222, 225, 226, 228, 254(k), and 620.

PURPOSES:

The Commission's CGB will use the information, e.g., records, in this system, which is submitted by the certified equipment distribution program in each state, as required by the NDBEDP, to maintain each state's certification to participate in this program.

ROUTINE USES OF RECORDS MAINTAINED IN THE SYSTEM, INCLUDING CATEGORIES OF USERS AND THE PURPOSES OF SUCH USES:

Information about individuals in this system of records may routinely be disclosed under the following conditions:

1. Informal Complaints—When a record in this system involves a formal or informal complaint, and/or inquiry filed against an NDBEDP certified program and related entities, the complaint or inquiry may be forwarded to the subject certified program for that state, the appropriate State and Federal medical boards, certifying associations, and related groups, and personal physicians (who may determine whether an individual meets the eligibility criteria for participation in the NDBEDP) for a response, as required under FCC rules;

2. Medical Records—A medical attestation or record (including but not limited to third party attestations, certifications, and declarations of disability) from this system may be disclosed to appropriate entities, including but not limited to the subject certified program for that state, the appropriate State and Federal medical boards, certifying associations, and related groups, and personal physicians for the purposes of determining whether an individual meets the eligibility criteria of being deaf-blind required to participate in the NDBEDP program;

3. Income Eligibility Records—A record from this system may be disclosed to appropriate entities, including but not limited to the subject certified program for that state, the appropriate State and Federal certifying boards and authorities for the purposes of determining whether an individual meets the income eligibility criteria required to participate in the NDBEDP program;

4. Law Enforcement and Investigation—Where there is an indication of a violation or potential violation of a statute, regulation, rule, or order, records from this system may be shared with appropriate Federal, State, or local authorities either for purposes of obtaining additional information relevant to a FCC decision or for referring the record for investigation, enforcement, or prosecution by another agency;

5. Adjudication and Litigation—Where by careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

6. Department of Justice—A record from this system of records may be disclosed to the Department of Justice (DOJ) or in a proceeding before a court or adjudicative body when:

(a) The United States, the Commission, a component of the Commission, or, when represented by the government, an employee of the Commission is a party to litigation or anticipated litigation or has an interest in such litigation, and

(b) The Commission determines that the disclosure is relevant or necessary to the litigation;

7. Congressional Inquiries—When requested by a Congressional office in response to an inquiry by an individual made to the Congressional office for the individual's own records;

8. Government-wide Program Management and Oversight—When requested by the General Services Administration (GSA), the National Archives and Records Administration (NARA), and/or the Government Accountability Office (GAO) for the purpose of records management inspections conducted under authority of 44 U.S.C. 2904 and 2906 (such disclosure(s) shall not be used to make a determination about individuals); when the U.S. Department of Justice (DOJ) is contacted in order to obtain that department's advice regarding disclosure obligations under the Freedom of Information Act; or when the Office of Management and Budget (OMB) is contacted in order to obtain that office's advice regarding obligations under the Privacy Act;

9. Breach of Federal Data—A record from this system may be disclosed to appropriate agencies, entities, and persons when (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm; and

10. FCC Enforcement Actions—When a record in this system involves a formal and/or informal complaint or inquiry filed alleging a violation of FCC Rules and Regulations by an applicant, licensee, certified or regulated entity or an unlicensed person or entity, the complaint may be provided to the alleged violator for a response. When an order or other Commission-issued document that includes consideration of a formal or informal complaint or complaints or inquiries is issued by the FCC to implement or to enforce FCC Rules and Regulations, the complainant's name or other PII may be made public in that order or document. Where a complainant in filing his or her complaint explicitly requests confidentiality of his or her name or other PII from public disclosure, the Commission will endeavor to protect such information from public disclosure. Complaints that contain requests for confidentiality may be dismissed if the Commission determines that the request impedes the Commission's ability to investigate and/or resolve the complaint.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The information in the NDBEDP system includes electronic data, records, and files that are stored in the FCC's computer network databases, and paper documents, records, and files that are stored in file cabinets in the CGB office suite.

RETRIEVABILITY:

Information in the electronic NDBEDP databases can be retrieved by categories of information, including but not limited to the individual's contact information, including the individual's name(s), street address, email address(es), and landline phone and cell phone number(s), complainant(s), and description fields.

The paper documents in the NDBEDP files are assigned a file identification name and/or number for future reference.

SAFEGUARDS:

Access to the information, e.g., electronic records, files, and data, in the NDBEDP, which is housed in the FCC computer network databases, is restricted to authorized CGB supervisors and staff and to the supervisors, staff, and contractors in the FCC's Information Technology Center (ITC), who maintain these computer databases. Other FCC employees and contractors may be granted access on a “need-to-know” basis. The FCC's computer network databases are protected by the FCC's security protocols, which include controlled access, passwords, and other security features. Information resident on the database servers is backed-up routinely onto magnetic media. Back-up tapes are stored on-site and at a secured location.

The paper documents are maintained in file cabinets that are located in the CGB office suite, whose access is through a card-coded main door. Access to these files is restricted to authorized CGB supervisors and staff.

RETENTION AND DISPOSAL:

The FCC will retain these records until a records schedule has been approved by the National Archives and Records Administration (NARA).

SYSTEM MANAGERS AND ADDRESS:

Address inquiries to the Consumer and Governmental Affairs Bureau (CGB), Federal Communications Commission (FCC), 445 12th Street SW., Washington, DC 20554.

NOTIFICATION PROCEDURE:

Address inquiries to the Consumer and Governmental Affairs Bureau (CGB), Federal Communications Commission (FCC), 445 12th Street SW., Washington, DC 20554.

RECORD ACCESS PROCEDURES:

Address inquiries to the Consumer and Governmental Affairs Bureau (CGB), Federal Communications Commission (FCC), 445 12th Street SW., Washington, DC 20554.

CONTESTING RECORD PROCEDURES:

Address inquiries to the Consumer and Governmental Affairs Bureau (CGB), Federal Communications Commission (FCC), 445 12th Street SW., Washington, DC 20554.

RECORD SOURCE CATEGORIES:

The sources for the information in this system include the individuals who request or receive the NDBEDP equipment; individuals, groups, and other entities who attest to the disability of the individual requesting or receiving the equipment; and other individuals, groups, and other entities who have a connection to the NDBEDP and its participants, e.g., those filing formal and informal complaints or inquiries on behalf of the participants.

EXEMPTIONS CLAIMED FOR THE SYSTEM:

None.

Federal Communications Commission.
Marlene H. Dortch,
Secretary, Office of the Secretary, Office of Managing Director.

[FR Doc. 2012-909 Filed 1-18-12; 8:45 am]

BILLING CODE 6712-01-P